DEPARTMENT OF HOMELAND SECURITY

Transportation Security Administration

Extension of Agency Information Collection Activity Under OMB Review: Military Severely Injured Joint Support Operations Center (MSIJSOC) and Travel Protocol Office (TPO) Programs

AGENCY: Transportation Security Administration, Homeland Security (DHS).

ACTION: 30-Day notice.

SUMMARY: This notice announces that the Transportation Security Administration (TSA) has forwarded the Information Collection Request (ICR), Office of Management and Budget (OMB) control number 1652-0069, abstracted below, to OMB for an extension in compliance with the Paperwork Reduction Act (PRA). The ICR describes the nature of the information collection and its expected burden. The collection involves the submission of travel information to TSA to provide wounded warriors, severely injured military personnel, and certain other travelers with assistance through the airport security screening process.

DATES: Send your comments by September 27, 2021. A comment to OMB is most effective if OMB receives it within 30 days of publication.

ADDRESSES: Written comments and recommendations for the proposed information collection should be sent within 30 days of publication of this notice to www.reginfo.gov/public/do/PRAMain. Find this particular information collection by selecting “Currently under Review—Open for Public Comments” and by using the find function.

FOR FURTHER INFORMATION CONTACT: Christina A. Walsh, TSA PRA Officer, Information Technology (IT), TSA-11, Transportation Security Administration, 6595 Springfield Center Drive, Springfield, VA 20598-6011; telephone (571) 227-2062; email TSAPRA@tsa.dhs.gov.

SUPPLEMENTARY INFORMATION: The ICR describes the nature of the information collection and its expected burden. On April 8, 2021, TSA published a Federal Register notice (86 FR 18291), with a 60-day comment period soliciting comments, of the following collection of information.

Comments Invited

In accordance with the Paperwork Reduction Act of 1995 (44 U.S.C. 3501 et seq.), an agency may not conduct or sponsor, and a person is not required to respond to, a collection of information unless it displays a valid OMB control number. The ICR documentation will be made available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Military Severely Injured Joint Support Operations Center (MSIJSOC) and Travel Protocol Office (TPO) Programs.

Type of Request: Extension.

OMB Control Number: 1652-0069.

Form(s): TSA Form 412, Travel Support Request and TSA Form 417 Screening Assistance Notification.

Affected Public: Wounded warriors, severely injured military personnel, foreign dignitaries, accredited Ambassadors to the United States, and other travelers requiring an escort through the airport security screening process.

Abstract: The Helping Heroes Fly Act directs TSA to develop and implement a process to support and facilitate the ease of travel and, to the extent possible, provide expedited passenger screening services for severely injured or disabled members of the Armed Forces and severely injured or disabled veterans through passenger screening. See sec. 2 of the Helping Heroes Fly Act, Public Law 113-27 (127 Stat. 503; Aug. 9, 2013) as amended and codified at 49 U.S.C. 44927. Consistent with these requirements, TSA established the MSIJSOC program to support and facilitate the movement of wounded warriors, severely injured military personnel, and severely injured or disabled veterans. Under the Aviation and Transportation Security Act (ATSA), TSA is responsible for security in all modes of transportation including screening operations for passenger air transportation and for carrying out such other duties relating to the transportation security as it considers appropriate. See sec. 101(a) of the ATSA, Public Law 107-71 (115 Stat. 597; Nov. 19, 2001) as codified at 49 U.S.C. 114. Under ATSA, TSA established the Travel Protocol Office (TPO) Programs to assist foreign dignitaries, accredited Ambassadors to the United States, and other travelers requiring an escort through the airport security screening process.

To implement the MSIJSCO and TPO programs, TSA must collect the passenger's name, flight itinerary (scheduled flight departure and arrival information), and contact information to successfully facilitate movements through the screening process at U.S. airports and its territories. TSA shares this information with airports on the passenger's itinerary to coordinate efforts, to synchronize seamless transitions with the affected parties, and protect security operations.

Number of Respondents: 8,456.

Estimated Annual Burden Hours: An estimated 705 hours annually.

Dated: August 20, 2021.
Christina A. Walsh,
TSA Paperwork Reduction Act Officer, Information Technology.

[FR Doc. 2021-18362 Filed 8-25-21; 8:45 am]

BILLING CODE 9110-05-P